DEPARTMENT OF TRANSPORTATION

Surface Transportation Board

[Docket No. AB 1101X]

Progressive Rail, Incorporated—Discontinuance of Service Exemption—in Barron County, WI

On July 5, 2012 Progressive Rail, Incorporated (PGR) and Wisconsin Central Ltd. (WCL) (collectively, Petitioners) filed with the Board a petition under 49 U.S.C. 10502 for exemption from the provisions of 49 U.S.C. 10903 to discontinue rail service provided by PGR over approximately 23.97 miles of rail line in Barron County, Wis. (the Lines), consisting of: (1) 16.92 miles of rail line between milepost 80.88 at or near Almena and milepost 97.80 at or near Cameron, and (2) 7.05 miles of rail line between milepost 49.0 at or near Cameron and milepost 56.05 at or near Rice Lake. The Lines are owned by WCL and have been operated by PGR since 2004 under lease from WCL.¹ WCL intends to resume operating the Lines itself. The Lines traverse U.S. Postal Service Zip Codes 54805, 54812, 54822, and 54868. The Lines include the stations of Almena (MP 81.0), Poskin (MP 85.4), Barron (MP 91.10), Cameron (MP 96.1), and Rice Lake (MP 56.05).

¹ See Progressive Rail, Inc.—Lease & Operation Exemption—Rail Lines of Wis. Cent., Ltd., FD 34600 (STB served Nov. 12, 2004).

WCL states that the Lines do not contain any federally granted rights-of-way. Any documentation in Petitioners' possession will be made available promptly to those requesting it.

The interest of railroad employees will be protected by the conditions set forth in Oregon Short Line Railroad-Abandonment Portion Goshen Branch Between Firth & Ammon, in Bingham & Bonneville Counties, Idaho, 360 I.C.C. 91 (1979).

By issuance of this notice, the Board is instituting an exemption proceeding pursuant to 49 U.S.C. 10502(b). A final decision will be issued by October 23, 2012.

Any offer of financial assistance (OFA) under 49 CFR 1152.27(b)(2) to subsidize continued rail service will be due no later than 10 days after service of a decision granting the petition for exemption. Each offer must be accompanied by a $1,500 filing fee. See 49 CFR 1002.2(f)(25).²

² Because this is a discontinuance proceeding and not an abandonment proceeding, trail use/rail banking and public use conditions are not appropriate. Similarly, no environmental or historic documentation is required under 49 CFR 1105.6(c)(2) and 1105.8.

All filings in response to this notice must refer to Docket No. AB 1101X and must be sent to: (1) Surface Transportation Board, 395 E Street SW., Washington, DC 20423-0001, and (2) David A. Hirsh, Harkins Cunningham LLP, 1700 K Street NW., Suite 400, Washington, DC 20006-3804. Replies to the petition are due on or before August 20, 2012.

Persons seeking further information concerning discontinuance procedures may contact the Board's Office of Public Assistance, Governmental Affairs, and Compliance at (202) 245-0238 or refer to the full abandonment and discontinuance regulations at 49 CFR part 1152. Questions concerning environmental issues may be directed to the Board's Office of Environmental Analysis (OEA) at (202) 245-0305. Assistance for the hearing impaired is available through the Federal Information Relay Service (FIRS) at 1-800-877-8339.

Board decisions and notices are available on our Web site at “www.stb.dot.gov.”

Decided: July 19, 2012. By the Board, Rachel D. Campbell, Director, Office of Proceedings.
Derrick A. Gardner,
Clearance Clerk.

[FR Doc. 2012-18128 Filed 7-24-12; 8:45 am]

BILLING CODE 4915-01-P